DEPARTMENT OF THE INTERIOR

Bureau of Land Management

[LLORB07000.L17110000.AL0000.LXSSH1060000.18X.HAG 18-0138]

Notice of Subcommittee Meeting for the Steens Mountain Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) subcommittee will meet as indicated below.

DATES: The SMAC subcommittee on Public Lands Access, will hold a public meeting on Thursday, September 27, 2018, and Friday, September 28, at the Frenchglen School, Highway 205 South, in Frenchglen, Oregon. The schedule for the two-day meeting is 10 a.m. to 5 p.m. Pacific Daylight Time on Thursday, September 27, 2018, for a field tour on Steens Mountain, and 8:30 a.m. to 5 p.m. Pacific Daylight Time on Friday, September 28, 2018, for a regular business session. A public comment period will be held from 2-2:30 p.m. on Friday, September 28, 2018. The meeting may end early if all business items are accomplished ahead of schedule, or may be extended if discussions warrant more time.

ADDRESSES: The SMAC subcommittee on Public Lands Access will meet at the Frenchglen School, Highway 205 South, Frenchglen, Oregon, 97736. The field tour on Thursday, September 27, 2018, will leave from the Frenchglen School.

FOR FURTHER INFORMATION CONTACT: Tara Thissell, Public Affairs Specialist, 28910 Highway 20 West, Hines, Oregon 97738; 541-573-4519; tthissell@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The SMAC was initiated August 14, 2001, pursuant to the Steens Mountain Cooperative Management and Protection Act of 2000 (Steens Act) (Pub. L. 106-399). The SMAC provides representative counsel and advice to the BLM regarding new and unique approaches to management of the land within the boundaries of the Steens Mountain Cooperative Management and Protection Area (CMPA), recommends cooperative programs and incentives for seamless landscape management that meet human needs, and advises the BLM on maintenance and improvement of the ecological and economic integrity of the area.

Agenda items include, but are not limited to: A field tour on September 27, 2018 to various areas on Steens Mountain; the annual recreation program report; review of one or more sections of the Steens Act; personnel, projects, and litigation update from the Designated Federal Official; discussion of the Nature's Advocate, LLC, inholder access Environmental Assessment, only if completed; a report on the BLM's Outcome-Based Grazing initiative; follow-up on member work between meetings on public land issues in the CMPA that may be pertinent to the BLM's capability and authority; a review of land exchanges, sales and purchases; information sharing about water rights and how they are issued, prioritized and processed; and regular business items such as approving the previous meeting's minutes, member round-table, and planning the next meeting's agenda. Any other matters that may reasonably come before the SMAC Subcommittee on Publlic Lands Access may also be included. All meetings are open to the public. The final agenda will be posted online at https://www.blm.gov/get-involved/resource-advisory-council/near-you/oregon-washington/steens-mac.

During the public comment period, depending on the number of people wishing to comment, time for individual oral comments may be limted.

Written comments may be sent to the Burns District office, 28910 Highway 20 West, Hines, Oregon 97738. Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Jeff Rose,
District Manager.

[FR Doc. 2018-17382 Filed 8-13-18; 8:45 am]

BILLING CODE 4310-33-P